JUDICIAL CONFERENCE OF THE UNITED STATES

Hearing of the Judicial Conference Advisory Committee on Rules of Civil Procedure

AGENCY: Judicial Conference of the United States, Advisory Committee on Rules of Civil Procedure.

ACTION: Notice of cancellation of open hearing.

SUMMARY: The public hearing on proposed amendments to the Federal Rules of Civil Procedure, scheduled for January 9, 2004, in Houston, Texas, has been canceled. [Original notice of hearing appeared in the Federal Register of September 10, 2003.]

FOR FURTHER INFORMATION CONTACT: John K. Rabiej, Chief, Rules Committee Support Office, Administrative Office of the United States Courts, Washington, DC 20544, telephone (202) 502-1820.

Dated: December 19, 2003.
John K. Rabiej,
Chief, Rules Committee Support Office.

[FR Doc. 03-31833 Filed 12-24-03; 8:45 am]

BILLING CODE 2210-55-M